DEPARTMENT OF THE INTERIOR

National Park Service

National Register of Historic Places; Notification of Pending Nominations and Related Actions

Nominations for the following properties being considered for listing or related actions in the National Register were received by the National Park Service before July 29, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by August 23, 2006.

John W. Roberts,
Acting Chief, National Register/National Historic Landmarks Program.

ARIZONA

Maricopa County

59th Avenue Residential Historic District, West side 59th Ave. bet. Orangewood Ave. and Frier Dr., Glendale, 06000767

McNair, Jonas, House, 5919 W. Myrtle Ave., Glendale, 06000768

ILLINOIS

Champaign County

Urbana—Lincoln Hotel—Lincoln Square Mall, 300 S. Broadway Ave., Urbana, 06000778

IOWA

Lucas County

Caviness, Carl L., Post 102, American Legion, (Architectural Career of William L. Perkins in Iowa:1917-1957 MPS) 201 S. Main St., Chariton, 06000773

Chariton City Hall and Fire Station, (Architectural Career of William L. Perkins in Iowa:1917-1957 MPS) 115 S. Main St., Chariton, 06000775

Chariton Herald—Patriot Building, (Architectural Career of William L. Perkins in Iowa:1917-1957 MPS) 815 Braden Ave., Chariton, 06000776

Chariton Masonic Temple, (Architectural Career of William L. Perkins in Iowa:1917-1957 MPS) 821 Armory Ave., Chariton, 06000777

Hotel Charitone, (Architectural Career of William L. Perkins in Iowa:1917-1957 MPS) 831 Braden Ave., Chariton, 06000774

KANSAS

Cherokee County

Niles, Rial A., House, 605 E. 12th St., Baxter Springs, 06000772

Crawford County

Cato District No. 4 School, (Public Schools of Kansas MPS) Jct. of 200th St. and 720th Ave., Cato, 06000771

Greenwood County

Greenwood Hotel, 300 N. Main, Eureka, 06000769

Nemaha County

Seneca Main Street Historic District, 301-607 Main, 304-612 Main, 25 N. 6th, 26 N. 4th, Seneca, 06000770

LOUISIANA

Catahoula Parish

Moss Grove Plantation House, 509 Black River Rd., Jonesville, 06000779

MARYLAND

Baltimore Independent City

Lion Brothers Company Building, 875 Hollins St., Baltimore (Independent City), 06000781

Somerset County

Deal Island Historic District, Deal Is. Rd. from Upper Thorofare to Ballard Rd. and intersecting Sts., Deal Island, 06000780

MASSACHUSETTS

Dukes County

Vanderhoop, Edwin DeVries, Homestead, 35 South Rd., 06000784

Middlesex County

Glen Road Historic District, 233-317 Glen Rd., Weston, 06000783

Norfolk County

Dedham Village Historic District, Roughly bounded by High, Court, Washington, School Sts., Village Ave., and Chestnut St., Dedham, 06000785

Plymouth County

Pembroke Friends Meetinghouse, Washington St. and Schoosett St., Pembroke, 06000786

MISSOURI

St. Louis Independent City

West Locust and Olive Street Commercial and Industrial District, Roughly bounded by Theresa, Olive, Locust and Leonard, St. Louis (Independent City), 06000787

NEW JERSEY

Hunterdon County

Bartles House, 159 Oldwick Rd., Tewksbury Township, 06000763

Morris County

Morristown and Erie Railroad Whippany Water Tank, 1 RR Plaza, NJ 10 W and Whippany Rd., Hanover Township, 06000762

Somerset County

St. Bernard's Church and Parish House, 88 Claremont Rd., Bernardsville, 06000761

NORTH CAROLINA

Wake County

Davis—Adcock Store, (Wake County MPS) 2013 Piney Grove-Wilbon Rd., E side of Piney Grove-Wilbon Rd., 0.2 mi. N of jct. of Wilbon Rd., Wilbon, 06000788

Pine Hall, (Wake County MPS) 5300 Castlebrook Dr., Raleigh, 06000789

Raleigh Bonded Warehouse, 1505 Capital Blvd., Raleigh, 06000790

OHIO

Delaware County

Baker, John, Tavern, 4151 OH 203, Radnor, 06000766

Fayette County

Washington Cemetery Historic District, 1741 Washington Ave., Washington Court House, 06000765

Washington County

Vaugh—Stacy—Evans Farm Historic District, 7700 OH 60, Lowell, 06000764

OKLAHOMA

Cherokee County

American Legion Hut, Tehlequah City Park, jct. of E Shawnee St. and N. Brookside Ave., Oklahoma, 06000798

Frankline, M.E., House, 415 N. College Ave., Tahlequah, 06000791

Rosamund, 527 Seminary Ave., Tahlequah, 06000793

Creek County

Tank Farm Loop Route 66 Roadbed, (Route 66 and Associated Resources in Oklahoma AD MPS) Jct. of OK 66 and Old Hwy. 66, 0.6 mi. W of I-44 overpass, Bristow, 06000797

Kay County

Chilocco Indian Agricultural School, US 77 and E0018 Rd., Newkirk, 06000792

Darr School of Aeronautics Hangar No. 3, SW of jct of Darr Park Dr. and Lindsey Rd., Ponca City, 06000794

Oklahoma County

Cartmill Farm House, 21751 N. Macarthur Blvd., Edmond, 06000795

Rogers County

Pryor Creek Bridge, (Route 66 and Associated Resources in Oklahoma AD MPS) Carries First St. over Pryor Creek, SW of jct with OK 66, Chelsea, 06000796

PENNSYLVANIA

Philadelphia County

United States Post Office—Main Branch, 2970 Market St., Philadelphia, 06000782

TENNESSEE

Giles County

Hallehurst, 106 Little Dry Creek Rd., Pulaski, 06000799

VIRGINIA

Amherst County

Oak Lawn, 155 Winridge Dr., Madison Heights, 06000802

Frederick County

Crumley—Lynn—Lodge House, 3641 Apple Pie Ridge Rd., Winchester, 06000806

Martinsville Independent City

West Church Street—Starling Avenue Historic District, Brown St., E. Church St., Cleveland Ave., Letcher Court, Market St. E, Scuffle Hill, Starling Ave., Martinsville (Independent City), 06000805

Montgomery County

Kentland Farm Historic and Archeological District (Boundary Increase), W terminus Whitethorne Rd., Blacksburg, 06000801

Powhatan County

Somerset, 2310 Ballsville Rd., Powhatan, 06000804

Rappahannock County

Meadow Grove Farm, 21 Meadow Grove Ln., Amissville, 06000803

WISCONSIN

Milwaukee County

Milwaukee Hospital, 2200 W. Kilbourn Ave., Milwaukee, 06000800

A request for Removal has been made for the following resource:

OKLAHOMA

Lincoln County

Bank of Agra 400 Grant Ave., Agra, 90000122

[FR Doc. E6-12822 Filed 8-7-06; 8:45 am]

BILLING CODE 4312-51-P